DEPARTMENT OF TRANSPORTATION

Federal Transit Administration

Transfer of Federally Assisted Land or Facility

AGENCY: Federal Transit Administration, DOT.

ACTION: Notice of intent to transfer Federally assisted land or facility.

SUMMARY: Section 5334(g) of the Federal Transit Laws, as codified, 49 U.S.C. § 5301, et seq., permits the Administrator of the Federal Transit Administration (FTA) to authorize a recipient of FTA funds to transfer land or a facility to a public body for any public purpose with no further obligation to the Federal government if, among other things, no Federal agency is interested in acquiring the asset for Federal use. Accordingly, FTA is issuing this Notice to advise Federal agencies that the Northern Indiana Commuter Transportation District intends to transfer a parcel of property to the City of South Bend for a street improvement project. Northern Indiana Commuter Transportation District currently owns the land. The property consists of approximately 1.58 acres of vacant land. The property is vacant land divided by Meade, Washington and Orange Streets and is bordered by the Norfolk Southern Railway. The property is located in South Bend, Indiana.

EFFECTIVE DATE: Any Federal agency interested in acquiring the facility must notify the FTA Region V Office of its interest by July 21, 2004.

ADDRESSES: Interested parties should notify the Regional Office by writing to Joel P. Ettinger, Regional Administrator, Federal Transit Administration, 200 West Adams, Suite 320, Chicago, IL 60606.

FOR FURTHER INFORMATION CONTACT: Donald Gismondi, Deputy Regional Administrator at 312/353-2789.

SUPPLEMENTARY INFORMATION:

Background

49 U.S.C. section 5334(g) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. section 5334(g)(1) Determinations: The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. section 5334(g)(1)(D) of the Federal Transit Laws. Accordingly, FTA hereby provides notice of the availability of the land or facility further described below. Any Federal agency interested in acquiring the affected facility should promptly notify the FTA.

If no Federal agency is interested in acquiring the existing facility, FTA will make certain that the other requirements specified in 49 U.S.C. section 5334(g)(1)(A) through (C) are met before permitting the asset to be transferred.

Additional Description of Facility

The property is approximately 1.58 acres of vacant land. The property is divided by Meade, Washington and Orange Streets. It is bordered by the Norfolk Southern Railway. The property consists of three parcels of land, which are all vacant. The property was once the route of the South Shore Line's passenger service into South Bend. Service to downtown ended in 1970, and the track was removed soon afterward. No structures have been located on this land since 1977. The property is zoned for light, industrial usage and is located in South Bend, Indiana.

Issued on: June 10, 2004.
Donald Gismondi,
Deputy Regional Administrator.

[FR Doc. 04-13983 Filed 6-18-04; 8:45 am]

BILLING CODE 4910-59-P